DEPARTMENT OF JUSTICE

Antitrust Division

Notice Pursuant to the National Cooperative Research and Production Act of 1933—International Electronics Manufacturing Initiative (Formerly National Electronics Manufacturing Initiative)

Notice is hereby given that, on December 27, 2006, pursuant to Section 6(a) of the National Cooperative Research and Production Act of 1993, 15 U.S.C. 4301 et seq. (“the Act”), International Electronics Manufacturing Initiative (formerly National Electronics Manufacturing Initiative) (“iNEMI”) has filed written notifications simultaneously with the Attorney General and the Federal Trade Comission disclosing changes in its membership. The notifications were filed for the purpose of extending the Act's provisions limiting the recovery of antitrust plaintiffs to actual damages under specified circumstances. Specifically, Albemarle Corporation, Baton Rouge, LA; Analogic, Peabody, MA; Ciba Speciality Chemicals Corporation, Tarrytown, PA; Micro Systems Engineering, Inc. (MSEI), Lake Oswego, OR; Rambo Chemicals (HK) Ltd., Kwai Chung, Hong Kong-China; STATS ChipPAC Ltd., Singapore, Singapore; Supresta, Ardsley, NY; and UGS Corporation, Milford, OH have been added as parties to this venture.

Also, Heraeus, Inc., West Conshohocken, PA; Total Parts Plus, Fort Walton Beach, FL; and Nortel, Toronto, Ontario, CANADA have withdrawn as parties to this venture. In addition, Alcatel and Lucent Technologies have merged with the name of the combined companies changed to Alcatel-Lucent, Paris, France.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on January 5, 2006. A notice was published in the Federal Register pursuant to Section 6(b) of the Act on February 8, 2006 (71 FR 6522).

Patricia A. Brink,
Deputy Director of Operations, Antitrust Division.

[FR Doc. 07-604 Filed 2-9-07; 8:45 am]

BILLING CODE 4410-11-M